DEPARTMENT OF COMMERCE

National Oceanic and Atmospheric Administration

[Docket No. 100513224-224-01 I.D. GF001]

NOAA's Office of Ocean Exploration and Research; Fiscal Year 2011 Ocean Exploration of the Aleutian Trench

AGENCY: Office of Ocean Exploration and Research (OER) Oceanic and Atmospheric Research (OAR), National Oceanic and Atmospheric Administration (NOAA), Department of Commerce.

ACTION: Notice of funding availability.

SUMMARY: The Office of Ocean Exploration and Research (OER) is seeking pre-proposals and full proposals to support its mission, consistent with NOAA's Strategic Plan, to search, investigate, and document poorly-known and unknown areas of the Aleutian Trench, through interdisciplinary exploration, and to advance and disseminate knowledge of the ocean environment and its physical, chemical, and biological resources. Competitive Ocean Exploration proposals will be bold, innovative and interdisciplinary in their approach. NOAA OER anticipates a total of approximately $1,000,000 will be available through this announcement.

DATES: Completed pre-proposals must be received by 5 pm (EDT) on July 1, 2010. Full proposal submissions must be received by 5 p.m. (EDT) on September 10, 2010. Applications received after the above deadlines will not be considered.

ADDRESSES: Pre-proposals must be submitted by either (1) e-mail at OAR.OE.FAQ@noaa.gov, or (2) hard-copy to ATTN: Dr. Nicolas Alvarado, NOAA Office of Ocean Exploration & Research, SSMC III, 10th Floor, 1315 East West Highway, Silver Spring, Maryland 20910. For e-mail submissions, please put your last name in the subject heading along with “OE Pre-proposal,” e.g., “Smith OE Pre-proposal.” Adobe PDF format is preferred. No facsimile pre-proposals will be accepted.

Full proposals must be submitted through Grants.gov. Applicants without Internet access may submit hard-copies to: ATTN: Dr. Nicolas Alvarado, NOAA Office of Ocean Exploration & Research, SSMC III, 10th Floor, 1315 East West Highway, Silver Spring, Maryland 20910. No e-mail or facsimile full proposal submissions will be accepted from applicants.

The required cover sheet for pre-proposals may be obtained through the OER Office Web site at: http://www.explore.noaa.gov/research-funding-opportunities. Application forms for full proposals are available through http://www.Grants.gov. For applicants without Internet access, hard copies of the cover sheet and the full proposal application package can be obtained via mail at NOAA Office of Ocean Exploration and Research, 1315 East West Highway, SSMC III, 10th Floor, Silver Spring, Maryland 20910, or requested by phone at (301) 734-1015.

FOR FURTHER INFORMATION CONTACT: For further information contact the NOAA Office of Ocean Exploration and Research at (301) 734-1015 or submit inquiries via e-mail to the Frequently Asked Questions address: OAR.OE.FAQ@noaa.gov. E-mail inquiries should include the Principal Investigator's name in the subject heading. Inquiries can be mailed to: ATTN: Dr. Nicolas Alvarado, NOAA Office of Ocean Exploration and Research, 1315 East-West Highway SSMC III, 10th Floor, R/OER Silver Spring, Maryland 20910.

SUPPLEMENTARY INFORMATION: Electronic Access: The full text of the full funding opportunity (FFO) announcement for this program can be accessed via the Grants.gov Web site at http://www.grants.gov. The announcement will also be available by contacting the program officials identified under FOR FURTHER INFORMATION CONTACT. Applicants must comply with all requirements contained in the FFO announcement.

Statutory Authority: 33 U.S.C. 3403(a)(4).

Program Description: The Office of Ocean Exploration and Research (OER) is seeking pre-proposals and full proposals to support its mission, consistent with NOAA's Strategic Plan, to search, investigate, and document poorly-known and unknown areas of the Aleutian Trench, through interdisciplinary exploration, and to advance and disseminate knowledge of the ocean environment and its physical, chemical, and biological resources. Competitive Ocean Exploration (OE) proposals will be bold, innovative and interdisciplinary in their approach.

Specifically, the OER program intends to provide 60 days of UNOLS Global Class ship-time for operations in the Aleutian Trench. These 60 days will focus on preliminary mapping of the East-West extent of the axis of the trench which resides in the U.S. Exclusive Economic Zone. In addition to mapping, ship operations can include, but are not limited to, the deployment or towing of sensors and instrumentation packages. This announcement is intended to solicit proposals that can augment the survey operations of the Global Class vessel with minimal interference to the primary survey mission, or proposals for work on other vessels that can operate in conjunction with the Global Class vessel. Only exploratory proposals will be funded, any other kind of project will not be reviewed.

Applicants are encouraged to visit the Ocean Explorer Web site (http://www.oceanexplorer.noaa.gov) to familiarize themselves with past and present OER-funded activities. The office priorities for this opportunity support NOAA's mission support goal of: Ecosystems—Protect, Restore, and Manage Use of Coastal and Ocean Resources through Ecosystem-Based Management.

Funding Availibility: For Fiscal Year (FY) 2011, OER anticipates a total of approximately $1,000,000 will be available through this announcement. Depending on the quality and quantity of proposals received, OER anticipates supporting approximately 2-4 awards through this solicitation, resulting in an average award level of approximately $250,000-$500,000, including analysis and publication. OE is currently working with other NOAA program offices, Federal institutions, and public and private organizations to design this expedition, including developing a consistent approach to gather, organize, and process data and information. Once proposals have been selected, OE will work with the PIs to plan an integrated expedition that will optimize ship and asset schedules. The OER Director may hold-over select proposals submitted for 2011 funding for consideration in 2012. The amount of funding available through this announcement is subject to the final FY11 appropriation for the Office of Ocean Exploration and Research. Publication of this announcement does not obligate NOAA to fund any specific project or to obligate all or any part of available funds. There is no guarantee that sufficient funds will be available to initiate or continue research activities where funding has been recommended by OER. The exact amount of funds that OER may recommend be granted will be determined in pre-award negotiations between the applicant and NOAA representatives. Future opportunities for submitting proposals may be available and will depend on OER funding levels.

Eligibility: Eligible applicants are institutions of higher education; other nonprofits; commercial organizations; foreign governments; organizations under the jurisdiction of foreign governments; international organizations; State, local and Indian Tribal governments; and other Federal agencies. Please Note: Before non-NOAA applicants may be funded, they must demonstrate that they have legal authority to receive funds from another Federal agency that is in excess of their appropriation. Because this announcement is not proposing to procure goods or services from applicants, the Economy Act (31 U.S.C. 1535) is not an appropriate legal basis.

Cost Sharing Requirements: This program does not have any cost-sharing requirements.

Preparation of Pre-proposals: Applicants are required to submit a two-page pre-proposal application before submitting a full proposal. Applicants must also attach a cover sheet for the pre-proposal, which may be obtained through the OER Office Web site. Please see section IV.B.1. of the FFO for more information on the contents of the pre-proposal. The purpose of a pre-proposal is to evaluate an applicant's proposal and to provide feedback on the viability of the project. An applicant is free to submit a full proposal regardless of the result of the OER Director's evaluation.

Evaluation and Selection Procedures: The general evaluation criteria and selection factors that will be applied to pre-proposals and full proposals for this funding opportunity are summarized below. Further information about the evaluation criteria and selection factors can be found in the full funding opportunity announcement.

Evaluation Criteria for Projects

i. Pre-Proposal Evaluation Criteria

The OER Director, in consultation with the Office staff, will evaluate pre-proposals using the following criteria: (1) Importance, Relevance and Applicability of Proposal to the OER Goals and thematic priorities (see Section I.A. Office & Notice Objectives and Section I.B. Office Priorities & Guidance of the FFO announcement for more information); (2) Scientific and Technical Merit, (3) Overall qualifications of applicants, (4) Project Costs, (5) Logistical feasibility (e.g., ship or equipment availability), and (6) Consistency with the priorities of this announcement. These factors are described in more detail below and in Section V.A.ii. “Full Proposal Evaluation Criteria” of the FFO.

ii. Full Proposal Evaluation Criteria

The following criteria, with the corresponding weight value, will be used to review full proposals: 1. Importance/Relevance and Applicability of Proposal to OER Goals (40%): This criterion ascertains whether there is intrinsic value in the proposed work and relevance to appropriate NOAA, international, regional, State, or local activities. For the OER review process this includes the degree to which the proposal addresses and supports OER's mission, objectives, themes and priorities (see Section I.A. Office & Notice Objectives, and Section I.B. Office Priorities & Guidance contained in the FFO). A central aspect of this criteria is whether the proposed effort is exploratory in nature (expanding the breadth of knowledge) as opposed to a research focus (expanding the depth of knowledge on any particular topic). 2. Scientific and Technical Merit (40%): This criterion ascertains whether the approach is technically sound and/or innovative, whether the methods are appropriate, and whether there are clear project goals and objectives. For the OER review process, in addition to the scientific, and/or technical merit of the effort, review criteria include whether: (a) The effort is interdisciplinary with suitable plans and methods, (b) the anticipated results (as appropriate, scientific, technical, historical, cultural, societal or economic) will have high downstream impact, e.g., leading to the revision of existing paradigms, the formulation of new paradigms or new frontiers of knowledge or activity, and (c) plans for preservation, documentation, and sharing of data, multimedia, specimen collections are adequately and clearly outlined. 3. Overall qualifications of applicants (10%): This ascertains whether the applicant(s) possesses the necessary education, experience, training, facilities and administrative resources to accomplish the project. For the OER review process this includes (a) the qualifications of the applicant(s), (b) the strength, diversity and depth of any partnership to accomplish the work proposed, and (c) the applicant's prior OER award performance, including timely publication of results, if applicable. 4. Project Costs (10%): This criterion evaluates the budget to determine whether it is realistic and commensurate with the project needs and time-frame. For the OER review process this includes the reasonableness of project costs, relative to the scope and impact of work proposed and the available funds. 5. Outreach and education (no points): This criterion assesses whether the project provides a focused and effective education and outreach strategy regarding NOAA's mission to protect the Nations natural resources. This criterion is not used in this competition.

Review and Selection Process

Upon receipt of a pre-proposal application, the OER Director, after consultation with OER staff, will evaluate each pre-proposal using the Pre-Proposal Evaluation Criteria, and make the decision whether to encourage or discourage the applicant from submitting a full proposal. A recommendation from the OER Director that discourages the submission of a full proposal does not preclude the applicant from submitting the full proposal.

Once a full proposal is received by NOAA, an initial administrative review is conducted to determine compliance with requirements and completeness of the application. Proposals determined to be in compliance and complete will be subjected to peer-review. Peer reviewers shall rate the individual proposals using the evaluation criteria and percentage weights provided above and provide summary comment. Both Federal and non-Federal experts in the field may be used in the peer-review process, which may include external mail reviews and/or a peer-review panel. Peer-review panelists will not be asked to reach consensus on individual proposals. Based on the individual external mail reviewer scores, summary comments, and summaries and scores by the panelists, if a peer-review panel is used, the OER Senior Scientist, after consultation with appropriate OER staff, will make funding recommendations to the Selecting Official, who is the OER Director. In making the final selections, the OER Director will award in rank order unless the proposal is justified to be selected out of rank order based upon one or more of the selection factors below and as further detailed in section V.C. of the FFO.

Selection Factors for Projects: The Selecting Official shall award in the rank order unless the proposal is justified to be selected out of rank order based on the following factors. 1. Availability of funding. 2. Balance/distribution of funds: a. Geographically (This includes ship availability). b. by type of institutions. c. by type of partners. d. by research areas. e. by project types. 3. Whether this project duplicates other projects funded or considered for funding by NOAA or other agencies. 4. Office priorities and policy factors (as described in Section I.B of the FFO). 5. Applicants prior award performance. 6. Partnerships and/or participation of targeted groups. 7. Adequacy of information necessary for NOAA staff to make a NEPA determination and draft necessary documentation before recommendations for funding are made to the Grants Officer.

Intergovernmental Review: Applications under this notice are subject to Executive Order 12372, “Intergovernmental Review of Programs.” Applicants must contact their State's Single Point of Contact (SPOC) to find out about and comply with the State's process under EO 12372. The names and addresses of the SPOC's are listed in the Office of Management and Budget's Web site: http://www.whitehouse.gov/omb/grants/spoc.html.

Limitation of Liability: In no event will NOAA or the Department of Commerce be responsible for proposal preparation costs if these programs fail to receive funding or are cancelled because of other agency priorities. Publication of this announcement does not oblige NOAA to award any specific project or to obligate any available funds.

National Environmental Policy Act (NEPA): NOAA must analyze the potential environmental impacts, as required by the National Environmental Policy Act (NEPA), for applicant projects or proposals which are seeking NOAA Federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases, if additional information is required after an application is selected, funds can be withheld by the Grants Officer, under a special award condition requiring the recipient to submit additional environmental compliance information sufficient to enable NOAA to make an assessment on any impacts that a project may have on the environment.

The Department of Commerce Pre-Award Notification Requirements for Grants and Cooperative Agreements: The Department of Commerce Pre-Award Notification Requirements for Grants and Cooperative Agreements contained in the Federal Register notice of February 11, 2008 (73 FR 7696), are applicable to this solicitation.

Paperwork Reduction Act: This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001. Notwithstanding any other provision of law, no person is required to, nor shall a person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with federalism implications as that term is defined in Executive Order 13132.

Administrative Procedure Act/Regulatory Flexibility Act: Prior notices and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: May 25, 2010.
Mark E. Brown,
Chief Financial Officer/Chief Administrative Officer, Office of Oceanic and Atmospheric Research, National Oceanic and Atmospheric Administration.

[FR Doc. 2010-12967 Filed 5-28-10; 8:45 am]

BILLING CODE 3510-KA-P